FEDERAL ACCOUNTING STANDARDS ADVISORY BOARD

Notice of Request for Comment on the Annual Report for Fiscal Year 2017 and Three-Year Plan

AGENCY: Federal Accounting Standards Advisory Board.

ACTION: Notice.

Pursuant to 31 U.S.C. 3511(d), the Federal Advisory Committee Act (Pub. L. 92-463), as amended, and the FASAB Rules of Procedure, as amended in October 2010, notice is hereby given that the Federal Accounting Standards Advisory Board (FASAB) has issued its Annual Report for Fiscal Year 2017 and Three-Year Plan.

The Annual Report for Fiscal Year 2017 and Three-Year Plan is available on the FASAB Web site at http://www.fasab.gov/our-annual-reports/. Copies can be obtained by contacting FASAB at (202) 512-7350.

Respondents are encouraged to comment on the content of the annual report and FASAB's project priorities for the next three years. Written comments are requested by January 29, 2018, and should be sent to fasab@fasab.gov or Wendy M. Payne, Executive Director, Federal Accounting Standards Advisory Board, 441 G Street NW., Suite 6814, Mailstop 6H19, Washington, DC 20548.

The Board is also conducting an online survey to help in assessing the most important priorities for the future. The annual planning survey is available at https://tell.gao.gov/fasabplanning2017/. The survey closes on November 30, 2017.

FOR FURTHER INFORMATION CONTACT: Ms. Wendy M. Payne, Executive Director, 441 G Street NW., Mailstop 6H19, Washington, DC 20548, or call (202) 512-7350.

Authority: Federal Advisory Committee Act, Pub. L. 92-463.

Dated: November 15, 2017.
Wendy M. Payne,
Executive Director.

[FR Doc. 2017-25819 Filed 11-29-17; 8:45 am]

BILLING CODE 1610-02-P